ENVIRONMENTAL PROTECTION AGENCY

40 CFR Parts 174 and 180

[EPA-HQ-OPP-2019-0041; FRL-9989-90]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 17, 2019.

ADDRESSES: Submit your comments, identified by the docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerances for Non-Inerts

PP 8F8659. (EPA-HQ-OPP-2018-0260). Monsanto Company, 1300 I St. NW, Suite 450 East, Washington, DC 20052, requests to amend the tolerance in 40 CFR part 180 for residues of the herbicide dicamba in or on corn, grain at 0.1 parts per million (ppm); corn, stover at 20 ppm; and corn, forage at 6 ppm. The gas chromatography/electron capture detector (GC/ECD) is used to measure and evaluate the chemical dicamba. Contact: RD.

B. New Tolerance Exemptions From Inerts (Except PIPS)

PP IN-11260. (EPA-HQ-OPP-2018-0845). BASF Corporation, 26 Davis Drive, Research Triangle Park, NC 27709, requests to establish an exemption from the requirement of a tolerance in 40 CFR part 180.960 for residues of formaldehyde, reaction products with melamine (CAS Reg. No. 94645-56-4); 1,3,5-Triazine-2,4,6-triamine, polymer with formaldehyde (CAS Reg. No. 9003-08-1); Formaldehyde, reaction products with melamine and methanol (CAS Reg. No. 94645-53-1); and 1,3,5-Triazine-2,4,6-triamine, polymer with formaldehyde, methylated (CAS Reg. No. 68002-20-0) collectively identified as “Melamine Formaldehyde Polycondensate Resin” when used as a pesticide inert ingredient in pesticide formulations. The petitioner believes no analytical method is needed because it is not required for an exemption from the requirement of a tolerance. Contact: RD.

C. Notice of Filing—New Tolerance Exemptions for PIPS

PP IN-11257. (EPA-HQ-OPP-2018-0403). Hangzhou Ruifeng Biosciences Co., Ltd., 1500 Wenyi Rd., Building 1, Room 103, Hangzhou, China (c/o GA Bannon Consulting LLC, 13 Blue Flag Court, Dardenne Prairie, MO 63368), requests to establish an exemption from the requirement of a tolerance in 40 CFR part 174 for residues of the plant-incorporated protectant (PIP) inert ingredient Deinococcus radiodurans 5-enolpyruvylshikimate-3-phosphate synthase (EPSPS) protein in or on food and feed commodities of all plants. The petitioner believes no analytical method is needed because an exemption from the requirement of a tolerance is being sought. Contact: BPPD.

D. Notice of Filing—New Tolerances for Non-Inerts

1. PP 8E8671. EPA-HQ-OPP-2018-0206. Bayer CropScience LP2, T.W. Alexander Dr., Research Triangle Park, NC 27709, requests to establish a tolerance in 40 CFR part 180 for residues of the fungicide, trifloxystrobin, in or on tea, dried at 5 ppm. The gas chromatography method with nitrogen phosphorus detection (GC/NPD) is used to measure and evaluate the chemical trifloxystrobin and the free form of its acid metabolite CGA-321113. Contact: RD.

2. PP 7F8612. EPA-HQ-OPP-2018-0002. BASF Corporation, 26 Davis Drive, P.O. Box 13528, Research Triangle Park, North Carolina 27709-3528, requests to establish tolerance in 40 CFR part 180 for residues of the fungicide mefentrifluconazole (BAS 750 F); 2-[4-(4-chlorophenoxy)-2-(trifluoromethyl)phenyl]-1-(1H-1,2,4-triazole-1-yl)propan-2-ol] in or on the following raw agricultural commodities: Almond, hulls at 4 ppm; barley, hay at 15 ppm; barley, straw at 30 ppm; cattle, fat at 0.3 ppm; cattle, kidney at 0.2 ppm; cattle, liver at 0.5 ppm; cattle, meat at 0.09 ppm; cattle, muscle at 0.04 ppm; cereal grains crop group 15, except wheat and corn at 3 ppm; cherry subgroup 12-12A at 4 ppm; citrus, oil at 30 ppm; corn, aspirated grain fractions at 0.3 ppm; corn, field, grain at 0.01 ppm; corn, pop, grain at 0.01 ppm; corn, sweet, forage at 6 ppm; corn, sweet, grain at 0.02 ppm; foliage of legume vegetables, except soybean, crop subgroup 7A at 20 ppm; forages of cereal grains, crop group 16 at 4 ppm; goat, fat at 0.3 ppm; goat, kidney at 0.2 ppm; goat, liver at 0.5 ppm; goat, meat at 0.09 ppm; goat, muscle at 0.04 ppm; grape, raisin at 4 ppm; grain, cereal, forage, fodder, and straw, group 16, stover at 9 ppm; grapefruit subgroup 10-10C at 1 ppm; horse, fat at 0.3 ppm; horse, kidney at 0.2 ppm; horse, liver at 0.5 ppm; horse, meat at 0.09 ppm; horse, muscle at 0.04 ppm; legume vegetables (succulent or dried) crop group 6, except lentil at 0.1 ppm; lemon/lime subgroup 10-10B at 2 ppm; lentil, dry at 2 ppm; milk at 0.03 ppm; orange subgroup 10-10A at 1 ppm; peach subgroup 12-12B at 2 ppm; peanut at 0.01 ppm; peanut, hay at 30 ppm; plum prune, fresh at 4 ppm; plum subgroup 12-12C at 2 ppm; pome fruit crop group 11-10 at 1.5 ppm; poultry, eggs at 0.01 ppm; poultry, fat at 0.01 ppm; poultry, liver at 0.01 ppm; poultry, meat at 0.01 ppm; poultry, muscle at 0.01 ppm; poultry, skin at 0.01 ppm; rapeseed subgroup 20A at 1 ppm; rice, straw at 9 ppm; sheep, fat at 0.3 ppm; sheep, kidney at 0.2 ppm; sheep, liver at 0.5 ppm; sheep, meat at 0.09 ppm; sheep, muscle at 0.04 ppm; small fruit vine climbing, except fuzzy kiwifruit subgroup 13-07F at 1.5 ppm; soybean, aspirated grain fractions at 5 ppm; soybean, forage at 4 ppm; soybean, hay at 15 ppm; soybean, seed at 0.3 ppm; sugar beet at 0.6 ppm; sugar beet, top at 9 ppm; swine, fat at 0.01 ppm; swine, liver at 0.01 ppm; swine, meat at 0.01 ppm; swine, skin at 0.01 ppm; tree nut crop group 14-12 at 0.06 ppm; tuberous and corm vegetables subgroup 1C at 0.02 ppm; wheat, aspirated grain fractions at 20 ppm; wheat, grain at 0.4 ppm; wheat, hay at 8 ppm; and wheat, straw at 30 ppm. The independently validated method (L0295/01, based on the QuEChERS method) was used for analyzing residues of BAS 750 F with appropriate sensitivity and selectivity in all crops and processed commodities. Two independently validated methods (L0272/01 and L0309/01) have been submitted for analyzing residues of BAS 750 F and its metabolite M750F022 (and conjugates) in animal commodities with appropriate sensitivity and selectivity, to measure and evaluate the chemical mefentrifluconazole. Contact: RD.

3. PP 7F8634. EPA-HQ-OPP-2018-0038. Valent U.S.A. LLC, 1600 Riviera Avenue, Suite 200, Walnut Creek, CA 94596, requests to establish a tolerance in 40 CFR part 180 for residues of the fungicide inpyrfluxam, S-2399, in or on apple at 0.01 ppm; apple, wet pomace at 0.03 ppm; beet, sugar, dried pulp at 0.05 ppm; beet, sugar, molasses at 0.03 ppm; beet, sugar, roots at 0.01 ppm; corn, field, forage at 0.02 ppm; corn, field, grain at 0.01 ppm; corn, field, stover at 0.02 ppm; corn, pop, grain at 0.01 ppm; corn, pop, stover at 0.02 ppm; corn, sweet, kernel plus cob with husks removed at 0.01 ppm; peanut at 0.01 ppm; peanut, hay at 2.0 ppm, rice, grain at 0.01 ppm; rice, bran at 0.02 ppm; rice, hulls at 0.05 ppm; soybean, seed at 0.01 ppm. The HPLC-MS/MS method is used to measure and evaluate the chemical inpyrfluxam. Contact: RD.

4. PP 7F8647. EPA-HQ-OPP-2018-0677. ISK Biosciences Corporation, 7470 Auburn Road, Suite A, Concord, Ohio 44077, requests to establish a tolerance in 40 CFR part 180 for residues of the fungicide pyriofenone, (5-chloro-2-methoxy-4-methyl-3-pyridinyl)(2,3,4-trimethoxy-6-methylphenyl)methanone, in or on fruiting vegetable crop group 8-10 at 0.30 ppm. The liquid chromatography-MS/MS is used to measure and evaluate the chemical pyriofenone. Contact: RD.

5. PP 8F8682. EPA-HQ-OPP-2018-0579. McLaughlin Gormly King Company (MGK), 8810 10th Ave. N Golden Valley, MN 55427, requests to establish a tolerance in 40 CFR part 180 for residues of the insecticide, pyrethrin, in or on the raw commodity of bananas at 6 ppm. The liquid chromatography-mass spectrometry/mass spectrometry (LC/MS/MS) method is used to measure and evaluate the chemical pyrethrins I (PY I) and pyrethrins II (PYII) in various ratios. PY I and PY II consist of three esters each: Pyrethrin I, jasmolin I and cinerin I in PY I; and pyrethrin II, jasmolin II, and cinerin II in PY II. Contact: RD.

Authority: 21 U.S.C. 346a.

Dated: February 21, 2019.
Hamaad Syed,
Acting Director, Information Technology and Resources Management Division, Office of Pesticide Programs.

[FR Doc. 2019-04975 Filed 3-15-19; 8:45 am]

BILLING CODE 6560-50-P